DEPARTMENT OF ENERGY

Federal Energy Regulatory Commission

Combined Notice of Filings #1

Take notice that the Commission received the following electric rate filings:

Docket Numbers: ER13-1332-002.

Applicants: Canadian Hills Wind, LLC.

Description: Compliance filing per 35: Amended Co-Tenancy and Shared Facilities Agreement to be effective 5/12/2015.

Filed Date: 3/13/15.

Accession Number: 20150313-5092.

Comments Due: 5 p.m. ET 4/3/15.

Docket Numbers: ER15-72-001.

Applicants: Southwest Power Pool, Inc.

Description: eTariff filing per 35.19a(b): 1976R3 Kaw Valley Electric Cooperative Inc. Refund Report to be effective N/A.

Filed Date: 3/13/15.

Accession Number: 20150313-5040.

Comments Due: 5 p.m. ET 4/3/15.

Docket Numbers: ER15-77-001.

Applicants: Southwest Power Pool, Inc.

Description: eTariff filing per 35.19a(b): 2041R3 KCBPU-GMO Refund Report to be effective N/A.

Filed Date: 3/13/15.

Accession Number: 20150313-5045.

Comments Due: 5 p.m. ET 4/3/15.

Docket Numbers: ER15-920-000.

Applicants: Arizona Public Service Company.

Description: Report Filing: Supplement to the Record for Service Agreement No. 340 with City of Azusa to be effective N/A.

Filed Date: 3/13/15.

Accession Number: 20150313-5065.

Comments Due: 5 p.m. ET 3/23/15.

Docket Numbers: ER15-1229-000.

Applicants: California Independent System Operator Corporation.

Description: § 205(d) rate filing per 35.13(a)(2)(iii): 2015-03-12_MSG_BCR_Clarification to be effective 3/13/2015.

Filed Date: 3/12/15.

Accession Number: 20150312-5133.

Comments Due: 5 p.m. ET 4/2/15.

Docket Numbers: ER15-1232-000.

Applicants: Illinois Municipal Electric Agency.

Description: Waiver Request of Illinois Municipal Electric Agency.

Filed Date: 3/11/15.

Accession Number: 20150311-5365.

Comments Due: 5 p.m. ET 3/23/15.

Docket Numbers: ER15-1238-000.

Applicants: ISO New England Inc., New England Power Pool Participants Committee.

Description: § 205(d) rate filing per 35.13(a)(2)(iii): LMPc Replacement to be effective 5/27/2015.

Filed Date: 3/13/15.

Accession Number: 20150313-5034.

Comments Due: 5 p.m. ET 4/3/15.

Docket Numbers: ER15-1239-000.

Applicants: PJM Interconnection, L.L.C.

Description: § 205(d) rate filing per 35.13(a)(2)(iii): Service Agreement No. 3739; Queue No. X2-075 to be effective 2/24/2015.

Filed Date: 3/13/15.

Accession Number: 20150313-5049.

Comments Due: 5 p.m. ET 4/3/15.

Docket Numbers: ER15-1240-000.

Applicants: Midcontinent Independent System Operator, Inc.

Description: § 205(d) rate filing per 35.13(a)(2)(iii): 2015-03-13_SA 2758 NSP-Trishe Wind Minnesota, LLC E&P (J288) to be effective 3/14/2015.

Filed Date: 3/13/15.

Accession Number: 20150313-5053.

Comments Due: 5 p.m. ET 4/3/15.

Docket Numbers: ER15-1241-000.

Applicants: Duke Energy Carolinas, LLC.

Description: § 205(d) rate filing per 35.13(a)(2)(iii): Amendment to NCEMC IA Catawba Nuclear Station to be effective 6/1/2015.

Filed Date: 3/13/15.

Accession Number: 20150313-5061.

Comments Due: 5 p.m. ET 4/3/15.

Docket Numbers: ER15-1252-000.

Applicants: PJM Interconnection, L.L.C., American Electric Power Service Corporation.

Description: § 205(d) rate filing per 35.13(a)(2)(iii): AEP submits revisions to OATT Attachment H-20B to update PBOP Rate to be effective 7/1/2015.

Filed Date: 3/13/15.

Accession Number: 20150313-5100.

Comments Due: 5 p.m. ET 4/3/15.

Docket Numbers: ER15-1253-000.

Applicants: PJM Interconnection, L.L.C.

Description: § 205(d) rate filing per 35.13(a)(2)(iii): Service Agreement No. 3481; Queue X4-015 to be effective 2/24/2015.

Filed Date: 3/13/15.

Accession Number: 20150313-5105.

Comments Due: 5 p.m. ET 4/3/15.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 13, 2015.
Nathaniel J. Davis, Sr.,
Deputy Secretary.

[FR Doc. 2015-06403 Filed 3-19-15; 8:45 am]

BILLING CODE 6717-01-P